DEPARTMENT OF TRANSPORTATION

National Highway Traffic Safety Administration

49 CFR Part 533

[Docket No. NHTSA-2001-11048]

RIN 2127-AI68

Light Truck Average Fuel Economy Standard, Model Year 2004

AGENCY: National Highway Traffic Safety Administration (NHTSA).

ACTION: Proposed rule; correction.

SUMMARY: This document corrects the preamble to a proposed rule published in the Federal Register of January 24, 2002, regarding the Light Truck Average Fuel Economy Standard for the 2004 model year. This correction inserts text that regarding the analysis of the environmental impacts of the proposal that was inadvertently omitted from the preamble.

FOR FURTHER INFORMATION CONTACT: Otto Matheke, Office of the Chief Counsel, NHTSA, at 202-366-5263.

Correction

In proposed rule, FR Doc. 02-1675, beginning on page 3472 in the issue of January 24, 2002, make the following correction in the Impact Analyses section. On page 3472 in the second column, add the following correction below the Environmental Impacts heading:

“We have not conducted an evaluation of the impacts of this proposal under the National Environmental Policy Act. NHTSA is proposing to set the 2004 model year light truck CAFE standard at the same level as the standard applicable to the 1999 through 2003 model years. As this proposal maintains the fuel economy standard at the same level as prior years, it does not impose any environmental impacts. Accordingly, no environmental assessment is required.”

Dated: January 25, 2002.
Stephen R. Kratzke,
Associate Administrator for Safety Performance Standards.

[FR Doc. 02-2268 Filed 1-28-02; 10:38 am]

BILLING CODE 4910-59-P